DEPARTMENT OF ENERGY

Federal Energy Regulatory Commission

[Docket Nos. EL16-62-000]

Golden Spread Electric Cooperative, Inc.; Notice of Petition for Declaratory Order

Take notice that on April 28, 2016, pursuant to section 292.402 of the Federal Energy Regulatory Commission's (Commission) Rules of Practice and Procedure, 18 CFR 292.402 (2015), Golden Spread Electric Cooperative, Inc., (Golden Spread), on behalf of itself and its sixteen (16) distribution cooperative members-owners (collectively, Participating Members),¹ filed a petition for a declaratory order requesting a partial waiver of certain obligations imposed on Golden Spread and the Participating Members under sections 292.303(a) and 292.303(b) ² of the Commission's regulations implementing section 210 of the Public Utility Regulatory Policies Act of 1978, all as more fully explained in the petition.

¹ The Participating Members include: Bailey County Electric Cooperative Association; Big Country Electric Cooperative, Inc.; Coleman County Electric Cooperative, Inc.; Concho Valley Electric Cooperative, Inc.; Deaf Smith Electric Cooperative, Inc.; Greenbelt Electric Cooperative, Inc.; Lamb County Electric Cooperative, Inc.; Lighthouse Electric Cooperative, Inc.; Lyntegar Electric Cooperative, Inc.; North Plains Electric Cooperative, Inc.; Rita Blanca Electric Cooperative, Inc.; South Plains Electric Cooperative, Inc.; Southwest Texas Electric Cooperative, Inc.; Swisher Electric Cooperative, Inc.; Taylor Electric Cooperative, Inc.; and Tri-County Electric Cooperative, Inc.

² 18 CFR 292.303(a) and 292.303(b).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance any FERC Online service, please email FERCOnlineSupport@ferc.gov, or call (866) 208-3676 (toll free). For TTY, call (202) 502-8659.

Comment Date: 5:00 p.m. Eastern time on May 31, 2016.

Dated: April 28, 2016.
Kimberly D. Bose,
Secretary.

[FR Doc. 2016-10907 Filed 5-9-16; 8:45 am]

BILLING CODE 6717-01-P